DEPARTMENT OF ENERGY

Federal Energy Regulatory Commission

Notice of Commission Staff Attendance at Midwest ISO Meetings

January 13, 2011.

The Federal Energy Regulatory Commission hereby gives notice that members of the Commission and Commission staff may attend the following Midwest ISO-related meetings during the 2011 year:

• Advisory Committee (10 a.m.-3 p.m., Local Time)

○ January 19

○ February 23 (Windsor Court Hotel, 300 Gravier Street, New Orleans, LA)

○ March 16

○ May 18

○ June 15

○ July 20

○ August 17 (St. Paul Hotel, 350 Market St., St. Paul, MN)

○ September 14

○ October 19

○ November 16

○ December 7

• Board of Directors (8:30 a.m.-10 a.m., Local Time)

○ February 24 (Windsor Court Hotel, 300 Gravier Street, New Orleans, LA)

○ April 14 (Crowne Plaza Hotel, 123 W. Louisiana Street, Indianapolis, IN)

○ June 16

○ August 18 (St. Paul Hotel, 350 Market St., St. Paul, MN)

○ October 20

○ December 8

• Board of Directors Markets Committee (8 a.m.-10 a.m., Local Time)

○ February 23 (Windsor Court Hotel, 300 Gravier Street, New Orleans, LA)

○ March 16

○ April 13 (Crowne Plaza Hotel, 123 W. Louisiana Street, Indianapolis, IN)

○ May 18

○ June 15

○ July 20

○ August 17 (St. Paul Hotel, 350 Market St., St. Paul, MN)

○ September 14

○ October 19

○ November 16

○ December 6

• Midwest ISO Informational Forum (3 p.m.-5 p.m., Local Time)

○ January 18

○ February 15

○ March 15

○ April 19

○ May 17

○ June 14

○ July 19

○ August 16 (St. Paul Hotel, 350 Market St., St. Paul, MN)

○ September 13

○ October 18

○ November 15

○ December 13

• Midwest ISO Market Subcommittee (9 a.m.-5 p.m., Local Time)

○ February 1

○ March 1

○ April 5

○ May 3

○ June 7

○ June 28

○ August 2

○ August 30

○ October 4

○ November 1

○ December 6

• Midwest ISO Supply Adequacy Working Group (9 a.m.-5 p.m., Local Time)

○ January 20

○ February 3

○ February 17

○ March 3

○ March 17

○ April 7

○ April 21

○ May 5

○ May 19

○ June 9

○ June 30

○ August 4

○ September 1

○ October 6

○ November 3

○ December 8

• Midwest ISO Regional Expansion Criteria and Benefits Task Force (9 a.m.-5 p.m., Local Time)

○ January 25

○ February 15

○ March 22

○ April 26

○ May 24

○ June 21

○ July 26

○ August 23

○ September 20

○ October 25

○ November 22

○ December 20

Except as noted, all of the meetings above will be held at: Midwest ISO Headquarters, 701 City Center Drive and 720 City Center Drive, Carmel, IN 46032.

Further information may be found at http://www.midwestiso.org.

The above-referenced meetings are open to the public.

The discussions at each of the meetings described above may address matters at issue in the following proceedings:

Docket No. RM01-5, Electronic Tariff Filings.

Docket No. ER02-488, Midwest Independent Transmission System Operator, Inc.

Docket Nos. ER02-2595, et al., Midwest Independent Transmission System Operator, Inc.

Docket No. ER04-375, Midwest Independent Transmission System Operator, Inc., et al.

Docket Nos. ER04-458, et al., Midwest Independent Transmission System Operator, Inc.

Docket Nos. ER04-691, EL04-104 and ER04-106, et al., Midwest Independent Transmission System Operator, Inc., et al.

Docket No. ER05-6, et al., Midwest Independent Transmission System Operator, Inc., et al.

Docket No. ER05-636, Midwest Independent Transmission System Operator, Inc.

Docket No. ER05-752, Midwest Independent Transmission System Operator, Inc. and PJM Interconnection, L.L.C.

Docket No. ER05-1047, Midwest Independent Transmission System Operator, Inc.

Docket No. ER05-1048, Midwest Independent Transmission System Operator, Inc.

Docket No. ER05-1083, et al., Midwest Independent Transmission System Operator, Inc., et al.

Docket No. ER05-1085, et al., Midwest Independent Transmission System Operator, Inc.

Docket No. ER05-1138, Midwest Independent Transmission System Operator, Inc.

Docket No. ER05-1201, Midwest Independent Transmission System Operator, Inc.

Docket No. ER05-1230, Midwest Independent Transmission System Operator, Inc.

Docket No. EL05-103, Northern Indiana Power Service Co. v. Midwest Independent Transmission System Operator, Inc. and PJM Interconnection, L.L.C.

Docket No. EL05-128, Quest Energy, L.L.C. v. Midwest Independent Transmission System Operator, Inc.

Docket Nos. EC06-4 and ER06-20, LGE Energy LLC, et al.

Docket Nos. ER06-18, et al., Midwest Independent Transmission System Operator, Inc.

Docket No. ER06-22, Midwest Independent Transmission System Operator, Inc.

Docket No. ER06-27, Midwest Independent Transmission System Operator, Inc., et al.

Docket No. ER06-56, Midwest Independent Transmission System Operator, Inc.

Docket No. ER06-192, Midwest Independent Transmission System Operator, Inc.

Docket No. ER06-356, Midwest Independent Transmission System Operator, Inc.

Docket No. ER06-360, et al., Midwest Independent Transmission System Operator, Inc., et al.

Docket No. ER06-532, Midwest Independent Transmission System Operator, Inc.

Docket No. ER06-731, Independent Market Monitor for the Midwest Independent Transmission System Operator, Inc.

Docket No. ER06-866, Midwest Independent Transmission System Operator, Inc.

Docket No. ER06-881, Midwest Independent Transmission System Operator, Inc.

Docket No. ER06-1420, Midwest Independent Transmission System Operator, Inc.

Docket No. ER06-1536, Midwest Independent Transmission System Operator, Inc.

Docket No. ER06-1552, Midwest Independent Transmission System Operator, Inc.

Docket No. EL06-31, Midwest Independent Transmission System Operator, Inc., et al.

Docket No. EL06-49, Midwest Independent Transmission System Operator, Inc., et al.

Docket No. EL06-80, Midwest Independent Transmission System Operator, Inc.

Docket No. RM06-16, Mandatory Reliability Standards for Bulk-Power System.

Docket No. AD07-12, Reliability Standard Compliance and Enforcement in Regions with Independent System Operators and Regional Transmission Organizations.

Docket No. ER07-53, Midwest Independent Transmission System Operator, Inc.

Docket No. ER07-478, Midwest Independent Transmission System Operator, Inc.

Docket No. ER07-532, Midwest Independent Transmission System Operator, Inc.

Docket No. ER07-580, Midwest Independent Transmission System Operator, Inc.

Docket No. ER07-815, Midwest Independent Transmission System Operator, Inc.

Docket No. ER07-940, Midwest Independent Transmission System Operator, Inc., et al.

Docket No. ER07-1141, International Transmission Co., et al.

Docket No. ER07-1144, American Transmission Co. LLC, et al.

Docket No. ER07-1182, Midwest Independent Transmission System Operator, Inc.

Docket Nos. ER07-1233 and ER07-1261, Midwest Independent Transmission System Operator, Inc.

Docket No. ER07-1372, Midwest Independent Transmission System Operator, Inc.

Docket No. ER07-1375, Midwest Independent Transmission System Operator, Inc.

Docket No. ER07-1388, Midwest Independent Transmission System Operator, Inc.

Docket No. ER07-1417, Midwest Independent Transmission System Operator, Inc., et al.

Docket No. EL07-44, Dakota Wind Harvest, LLC v. Midwest Independent Transmission System Operator, Inc., et al.

Docket No. EL07-79, Midwest Independent Transmission System Operator, Inc.

Docket Nos. EL07-86, EL07-88, EL07-92, Ameren Services Co., et al. v. Midwest Independent Transmission System Operator, Inc., et al.

Docket No. OA07-57, Midwest Independent Transmission System Operator, Inc.

Docket Nos. RR07-2, et al., Delegation Agreement Between the North American Electric Reliability Corporation and Midwest Reliability Organization, et al.

Docket No. EL08-32, Central Minnesota Municipal Power Agency and Midwest Municipal Transmission Group, Inc.

Docket No. ER08-15, Midwest ISO Transmission Owners.

Docket No. ER08-55, Midwest Independent Transmission System Operator, Inc., et al.

Docket No. ER08-109, Midwest Independent Transmission System Operator, Inc.

Docket Nos. ER08-185 and ER08-186, Ameren Energy Marketing Company, et al.

Docket No. ER08-207, Midwest Independent Transmission System Operator, Inc.

Docket No. ER08-209, Midwest Independent Transmission System Operator, Inc.

Docket No. ER08-269, Midwest Independent Transmission System Operator, Inc.

Docket No. ER08-296, Midwest Independent Transmission System Operator, Inc.

Docket No. ER08-320, Midwest Independent Transmission System Operator, Inc.

Docket No. ER08-370, Midwest Independent Transmission System Operator, Inc.

Docket No. ER08-394, Midwest Independent Transmission System Operator, Inc.

Docket No. ER08-404, Midwest Independent Transmission System Operator, Inc.

Docket No. ER08-416, Midwest Independent Transmission System Operator, Inc.

Docket No. ER08-622, Midwest Independent Transmission System Operator, Inc.

Docket No. ER08-637, Midwest Independent Transmission System Operator, Inc.

Docket No. ER08-925, Midwest Independent Transmission System Operator, Inc.

Docket No. ER08-1043, Midwest Independent Transmission System Operator, Inc.

Docket No. ER08-1074, Midwest Independent Transmission System Operator, Inc.

Docket No. ER08-1169, Midwest Independent Transmission System Operator, Inc.

Docket No. ER08-1244, Midwest Independent Transmission System Operator, Inc.

Docket No. ER08-1252, Midwest Independent Transmission System Operator, Inc.

Docket No. ER08-1285, Midwest Independent Transmission System Operator, Inc.

Docket No. ER08-1309, Midwest Independent Transmission System Operator, Inc.

Docket No. ER08-1370, Midwest Independent Transmission System Operator, Inc.

Docket No. ER08-1399, Midwest Independent Transmission System Operator, Inc.

Docket No. ER08-1400, Midwest Independent Transmission System Operator, Inc.

Docket No. ER08-1401, Midwest Independent Transmission System Operator, Inc.

Docket No. ER08-1404, Midwest Independent Transmission System Operator, Inc.

Docket No. ER08-1435, Midwest Independent Transmission System Operator, Inc.

Docket No. ER08-1485, Midwest Independent Transmission System Operator, Inc.

Docket No. ER08-1486, Midwest Independent Transmission System Operator, Inc.

Docket No. ER08-1505, Midwest Independent Transmission System Operator, Inc.

Docket No. OA08-4, Midwest ISO Transmission Owners, et al.

Docket No. OA08-14, Midwest Independent Transmission System Operator, Inc.

Docket No. OA08-42, Midwest Independent Transmission System Operator, Inc.

Docket No. OA08-53, Midwest Independent Transmission System Operator, Inc.

Docket No. OA08-106, Midwest Independent Transmission System Operator, Inc.

Docket No. OA09-7, Midwest Independent Transmission System Operator, Inc.

Docket No. RM08-19, Mandatory Reliability Standards for the Calculation of Available Transfer, Capacity Benefit Margins, Transmission Reliability Margins, Total Transfer Capability, and Existing Transmission Commitments and Mandatory Reliability Standards for the Bulk Power System.

Docket No. AD09-10, National Action Plan on Demand Response.

Docket No. AD09-15, Version One Regional Reliability Standard for Resource and Demand Balancing.

Docket No. EL09-71, Resale Power Group of Iowa, WPPI Energy.

Docket No. ER09-66, Midwest Independent Transmission System Operator, Inc.

Docket No. ER09-72, Xcel Energy Operating Companies.

Docket No. ER09-91, Midwest Independent Transmission System Operator, Inc.

Docket No. ER09-108, Midwest Independent Transmission System Operator, Inc.

Docket No. ER09-123, Midwest Independent Transmission System Operator, Inc.

Docket No. ER09-245, Midwest Independent Transmission System Operator, Inc.

Docket No. ER09-266, Midwest Independent Transmission System Operator, Inc.

Docket No. ER09-267, Midwest Independent Transmission System Operator, Inc.

Docket No. ER09-403, Midwest Independent Transmission System Operator, Inc.

Docket No. ER09-499, Midwest Independent Transmission System Operator, Inc.

Docket No. ER09-506, Midwest Independent Transmission System Operator, Inc.

Docket No. ER09-512, Midwest Independent Transmission System Operator, Inc.

Docket No. ER09-91, Midwest Independent Transmission System Operator, Inc.

Docket No. ER09-573, Midwest Independent Transmission System Operator, Inc.

Docket No. ER09-592, Midwest Independent Transmission System Operator, Inc.

Docket No. ER09-654, Midwest Independent Transmission System Operator, Inc.

Docket No. ER09-660, Midwest Independent Transmission System Operator, Inc.

Docket No. ER09-769, Midwest Independent Transmission System Operator, Inc.

Docket No. ER09-774, Midwest Independent Transmission System Operator, Inc.

Docket No. ER09-783, Midwest Independent Transmission System Operator, Inc.

Docket No. ER09-785, Midwest Independent Transmission System Operator, Inc.

Docket No. ER09-788, Midwest Independent Transmission System Operator, Inc.

Docket No. ER09-807, Midwest Independent Transmission System Operator, Inc.

Docket No. ER09-827, Midwest Independent Transmission System Operator, Inc.

Docket No. ER09-839, Midwest Independent Transmission System Operator, Inc.

Docket No. ER09-861, Midwest Independent Transmission System Operator, Inc.

Docket No. ER09-991, Midwest Independent Transmission System Operator, Inc.

Docket No. ER09-994, Midwest Independent Transmission System Operator, Inc.

Docket No. ER09-998, Midwest Independent Transmission System Operator, Inc.

Docket No. ER09-999, Midwest Independent Transmission System Operator, Inc.

Docket No. ER09-1049, Midwest Independent Transmission System Operator, Inc.

Docket No. ER09-1074, Midwest Independent Transmission System Operator, Inc.

Docket No. ER09-1126, Midwest Independent Transmission System Operator, Inc.

Docket No. ER09-1369, Midwest Independent Transmission System Operator, Inc.

Docket No. ER09-1396, Midwest Independent Transmission System Operator, Inc.

Docket No. ER09-1422, Midwest Independent Transmission System Operator, Inc.

Docket No. ER09-1432, Midwest Independent Transmission System Operator, Inc.

Docket No. ER09-1431, Midwest Independent Transmission System Operator, Inc.

Docket No. ER09-1435, Midwest Independent Transmission System Operator, Inc.

Docket No. ER09-1526, Midwest Independent Transmission System Operator, Inc.

Docket No. ER09-1543, Midwest Independent Transmission System Operator, Inc.

Docket No. ER09-1575, Midwest Independent Transmission System Operator, Inc.

Docket No. ER09-1719, Midwest Independent Transmission System Operator, Inc.

Docket No. ER09-1727, Midwest Independent Transmission System Operator, Inc.

Docket No. ER09-1769, Midwest Independent Transmission System Operator, Inc.

Docket No. ER09-1779, Midwest Independent Transmission System Operator, Inc.

Docket No. ES09-54, Midwest Independent Transmission System Operator, Inc.

Docket No. AD10-5, RTO/ISO Performance Metrics.

Docket No. AD10-14, Reliability Standards Development and NERC and Regional Entity Enforcement.

Docket No. EC10-39, American Transmission Company, LLC.

Docket No. EF10-3, Western Area Power Administration.

Docket No. EL10-41, Tatanka Wind Power, LLC v. Montana-Dakota Utilities Company, a division of MDU Resources Group, Inc.

Docket No. EL10-45, Midwest Independent Transmission System Operator, Inc. v. PJM Interconnection, LLC.

Docket No. EL10-46, Midwest Independent Transmission System Operator, Inc. v. PJM Interconnection, LLC.

Docket No. EL10-60, PJM Interconnection, LLC v. Midwest Independent Transmission System Operator, Inc.

Docket No. EL10-68, Resale Power Group of Iowa and WPPI Energy v. ITC Midwest LLC and Interstate Power and Light Company.

Docket No. EL10-77, City of Pella, Iowa v. Midwest Independent Transmission System Operator, Inc. and MidAmerican Energy Company, Inc.

Docket No. EL10-78, PJM Interconnection, L.L.C.

Docket No. ER10-8, Midwest Independent Transmission System Operator, Inc.

Docket Nos. ER10-9, 10-73, 10-74, Dairyland Power Cooperative v. Midwest Independent Transmission System Operator, Inc.

Docket No. ER10-27, Midwest Independent Transmission System Operator, Inc.

Docket Nos. ER10-209, EL10-12, and ER10-640, Commonwealth Edison Company and Commonwealth Edison Company of Indiana, Inc. v. Midwest Independent Transmission System Operator, Inc.

Docket No. ER10-128, Midwest Independent Transmission System Operator, Inc.

Docket No. ER10-224, Midwest Independent Transmission System Operator, Inc.

Docket No. ER10-277, Midwest Independent Transmission System Operator, Inc.

Docket No. ER10-279, Midwest Independent Transmission System Operator, Inc.

Docket No. ER10-316, Midwest Independent Transmission System Operator, Inc.

Docket No. ER10-327, Dynegy Midwest Generation, Inc.

Docket No. ER10-386, Midwest Independent Transmission System Operator, Inc.

Docket No. ER10-394, Midwest Independent Transmission System Operator, Inc.

Docket No. ER10-495, Midwest Independent Transmission System Operator, Inc.

Docket No. ER10-559, Midwest Independent Transmission System Operator, Inc.

Docket No. ER10-563, Midwest Independent Transmission System Operator, Inc.

Docket No. ER10-576, Midwest Independent Transmission System Operator, Inc.

Docket No. ER10-579, Midwest Independent Transmission System Operator, Inc.

Docket No. ER10-582, Midwest Independent Transmission System Operator, Inc.

Docket No. ER10-639, Midwest Independent Transmission System Operator, Inc.

Docket No. ER10-640, Midwest Independent Transmission System Operator, Inc.

Docket No. ER10-685, Midwest Independent Transmission System Operator, Inc.

Docket No. ER10-686, Otter Tail Power Company.

Docket No. ER10-687, Midwest Independent Transmission System Operator, Inc. and ALLETE, Inc.

Docket No. ER10-691, Duke Energy Indiana, Inc.

Docket No. ER10-706, Midwest Independent Transmission System Operator, Inc.

Docket No. ER10-810, Midwest Independent Transmission System Operator, Inc.

Docket No. ER10-839, Midwest Independent Transmission System Operator, Inc.

Docket No. ER10-863, Midwest Independent Transmission System Operator, Inc.

Docket No. ER10-866, Midwest Independent Transmission System Operator, Inc.

Docket No. ER10-867, Midwest Independent Transmission System Operator, Inc.

Docket No. ER10-884, Midwest Independent Transmission System Operator, Inc.

Docket No. ER10-938, Duke Energy Corporation.

Docket No. ER10-953, Midwest Independent Transmission System Operator, Inc.

Docket No. ER10-957, Midwest Independent Transmission System Operator, Inc., PJM Interconnection, L.L.C., and Southwest Power Pool, Inc.

Docket No. ER10-962, Union Electric Company.

Docket No. ER10-970, FirstEnergy Solutions Corp.

Docket No. ER10-978, Wolverine Power Supply Cooperative, Inc.

Docket No. ER10-1004, Midwest Independent Transmission System Operator, Inc.

Docket No. ER10-1007, Midwest Independent Transmission System Operator, Inc.

Docket No. ER10-1024, Midwest Independent Transmission System Operator, Inc.

Docket No. ER10-1036, Midwest Independent Transmission System Operator, Inc.

Docket No. ER10-1069, Southwest Power Pool, Inc.

Docket No. ER10-1070, Midwest Independent Transmission System Operator, Inc.

Docket No. ER10-1071, Midwest Independent Transmission System Operator, Inc.

Docket No. ER10-1085, Midwest Independent Transmission System Operator, Inc.

Docket No. ER10-1086, Midwest Independent Transmission System Operator, Inc.

Docket No. ER10-1098, Midwest Independent Transmission System Operator, Inc.

Docket No. ER10-1132, Midwest Independent Transmission System Operator, Inc.

Docket No. ER10-1194, Midwest Independent Transmission System Operator, Inc.

Docket No. ER10-1244, Midwest Independent Transmission System Operator, Inc.

Docket No. ER10-1251, Midwest Independent Transmission System Operator, Inc.

Docket No. ER10-1273, Joint Pricing Zone Revenue Allocation Agreement between Great River Energy, Central Minnesota Municipal Power Agency, Northern States Power Company and Southern Minnesota Municipal Power Agency.

Docket No. ER10-1296, Wisconsin Electric Power Company.

Docket No. ER10-1301, Notice of Cancellation of Adjacent Balancing Authority Coordination Agreement between the Midwest ISO and Dairyland Power Cooperative.

Docket No. ER10-1305, Xcel Energy Services Inc.

Docket No. ER10-1349, Midwest Independent Transmission System Operator, Inc.

Docket No. ER10-1361, Midwest Independent Transmission System Operator, Inc.

Docket No. ER10-1366, Midwest Independent Transmission System Operator, Inc.

Docket No. ER10-1377, Xcel Energy Services, Inc.

Docket No. ER10-1400, Midwest Independent Transmission System Operator, Inc.

Docket No. ER10-1413, Midwest Independent Transmission System Operator, Inc.

Docket No. ER10-1444, Midwest Independent Transmission System Operator, Inc.

Docket No. ER10-1446, Midwest Independent Transmission System Operator, Inc.

Docket No. ER10-1463, Midwest Independent Transmission System Operator, Inc.

Docket No. ER10-1485, Midwest Independent Transmission System Operator, Inc.

Docket No. ER10-1492, Midwest Independent Transmission System Operator, Inc.

Docket No. ER10-1552, Midwest Independent Transmission System Operator, Inc.

Docket No. ER10-1561, Midwest Independent Transmission System Operator, Inc.

Docket No. ER10-1562, Duke Energy Ohio, Inc., and Duke Energy Kentucky, Inc.

Docket No. ER10-1648, Midwest Independent Transmission System Operator, Inc.

Docket No. ER10-1666, Midwest Independent Transmission System Operator, Inc.

Docket No. ER10-1649, Midwest Independent Transmission System Operator, Inc.

Docket No. ER10-1668, Midwest Independent Transmission System Operator, Inc.

Docket No. ER10-1677, Midwest Independent Transmission System Operator, Inc.

Docket No. ER10-1696, Midwest Independent Transmission System Operator, Inc.

Docket No. ER10-1701, Ameren Services Company as Agent for Illinois Power Company.

Docket Nos. ER10-1732 and ER10-1733, Midwest Independent Transmission System Operator, Inc.

Docket No. ER10-1791, Midwest Independent Transmission System Operator, Inc. and the Midwest ISO Transmission Owners.

Docket No. ER10-1814, Midwest Independent Transmission System Operator, Inc.

Docket No. ER10-1913, Midwest Independent Transmission System Operator, Inc.

Docket No. ER10-1997, Midwest Independent Transmission System Operator, Inc.

Docket No. ER10-2052, Midwest Independent Transmission System Operator, Inc.

Docket No. ER10-2072, Midwest Independent Transmission System Operator, Inc.

Docket No. ER10-2080, Midwest Independent Transmission System Operator, Inc.

Docket No. ER10-2090, Midwest Independent Transmission System Operator, Inc.

Docket No. ER10-2283, Midwest Independent Transmission System Operator, Inc.

Docket No. ER10-2523, Midwest Independent Transmission System Operator, Inc.

Docket No. ER10-2524, Midwest Independent Transmission System Operator, Inc.

Docket No. ER10-2540, Midwest Independent Transmission System Operator, Inc.

Docket No. ER10-2844, Midwest Independent Transmission System Operator, Inc.

Docket No. ER10-2869, Midwest Independent Transmission System Operator, Inc.

Docket No. ER10-3152, Midwest Independent Transmission System Operator, Inc.

Docket No. ER10-3180, Midwest Independent Transmission System Operator, Inc.

Docket No. ER10-3229, Midwest Independent Transmission System Operator, Inc.

Docket No. ER11-15, Midwest Independent Transmission System Operator, Inc.

Docket No. ER11-16, Midwest Independent Transmission System Operator, Inc.

Docket No. ER11-22, Midwest Independent Transmission System Operator, Inc.

Docket No. ER11-28, Midwest Independent Transmission System Operator, Inc.

Docket No. ER11-64, Midwest Independent Transmission System Operator, Inc.

Docket No. ER11-93, Midwest Independent Transmission System Operator, Inc.

Docket No. ER11-99, Midwest Independent Transmission System Operator, Inc.

Docket No. ER11-134, Midwest Independent Transmission System Operator, Inc.

Docket No. ER11-1844, Midwest Independent Transmission System Operator, Inc.

Docket No. ER11-1845, Midwest Independent Transmission System Operator, Inc.

Docket No. ER11-1851, Midwest Independent Transmission System Operator, Inc.

Docket No. ER11-1863, Midwest Independent Transmission System Operator, Inc.

Docket No. ER11-1991, Midwest Independent Transmission System Operator, Inc.

Docket No. ER11-1967, Midwest Independent Transmission System Operator, Inc.

Docket No. ER11-1976, Midwest Independent Transmission System Operator, Inc.

Docket No. ER11-2053, Midwest Independent Transmission System Operator, Inc.

Docket No. ER11-2059, Midwest Independent Transmission System Operator, Inc.

Docket No. ER11-2104, Midwest Independent Transmission System Operator, Inc.

Docket No. ER11-2113, Midwest Independent Transmission System Operator, Inc.

Docket No. ER11-2123, Midwest Independent Transmission System Operator, Inc.

Docket No. ER11-2208, Midwest Independent Transmission System Operator, Inc.

Docket No. ER11-2275, Midwest Independent Transmission System Operator, Inc.

Docket No. ER11-2276, Midwest Independent Transmission System Operator, Inc.

Docket No. ER11-2277, Midwest Independent Transmission System Operator, Inc.

Docket No. ER11-2300, Midwest Independent Transmission System Operator, Inc.

Docket No. ER11-2313, Midwest Independent Transmission System Operator, Inc.

Docket No. ER11-2334, Midwest Independent Transmission System Operator, Inc.

Docket No. ER11-2350, Midwest Independent Transmission System Operator, Inc.

Docket No. ER11-2359, Midwest Independent Transmission System Operator, Inc.

Docket No. ER11-2360, Midwest Independent Transmission System Operator, Inc.

Docket No. ER11-2361, Midwest Independent Transmission System Operator, Inc.

Docket No. ES10-31, Midwest Independent Transmission System Operator, Inc.

Docket No. ES10-35, Integrys Energy Services, Inc. and Macquarie Cook Power Inc.

Docket No. PL10-4, Enforcement of Statutes, Orders, Rules, and Regulations.

Docket No. RM09-13, Time Error Correction Reliability Standard.

Docket No. RM10-9, Transmission Loading Relief Reliability Standard and Curtailment Priorities.

Docket No. RM10-11, Integration of Variable Energy Resources.

Docket No. RM10-13, Credit Reforms in Organized Wholesale Electric Markets.

Docket No. RM10-17 and EL09-68, Demand Response Compensation in Organized Wholesale Energy Markets.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Nathaniel J. Davis, Sr.,
Deputy Secretary.

[FR Doc. 2011-1311 Filed 1-21-11; 8:45 am]

BILLING CODE 6717-01-P